DEPARTMENT OF TRANSPORTATION

Federal Aviation Administration

Aviation Rulemaking Advisory Committee (ARAC); Renewal

AGENCY: Federal Aviation Administration (FAA), DOT.

ACTION: Notice of Renewal.

SUMMARY: The FAA announces the charter renewal of the Aviation Rulemaking Advisory Committee (ARAC), a Federal Advisory Committee that works with industry and the public to improve the development of the FAA's regulations. This charter renewal will take effect on September 17, 2012, and will expire after 2 years.

FOR FURTHER INFORMATION CONTACT: Renee Butner, Federal Aviation Administration, 800 Independence Avenue SW., Washington, DC 20591, telephone (202) 267-5093; fax (202) 267-5075; email Renee.Butner@faa.gov.

SUPPLEMENTARY INFORMATION: Pursuant to section 14(a)(2)(A) of the Federal Advisory Committee Act (Pub. L. 92-463), the FAA is giving notice of the charter renewal for the ARAC. The ARAC was established to provide advice and recommendations to FAA on regulatory matters. The ARAC is composed of member organizations and associations that represent the various aviation industry segments. The diversity of the Committee ensures the requisite range of views and expertise necessary to discharge its responsibilities. See the ARAC Web site for details on pending tasks at http://www.faa.gov/regulations_policies/rulemaking/committees/documents/.

Dated: Issued in Washington, DC, on September 10, 2012.
Lirio Liu,
Acting Director, Office of Rulemaking.

[FR Doc. 2012-22713 Filed 9-13-12; 8:45 am]

BILLING CODE 4910-13-P